DEPARTMENT OF COMMERCE

Foreign-Trade Zones Board

[B-07-2014]

Foreign-Trade Zone 269—Athens, Texas; Authorization of Production Activity; Schneider Electric USA (Electrical Component Assembly); Athens, Texas

On January 15, 2014, Schneider Electric USA submitted a notification of proposed production activity to the Foreign-Trade Zones (FTZ) Board for its facility within FTZ 269—Site 1, in Athens, Texas.

The notification was processed in accordance with the regulations of the FTZ Board (15 CFR part 400), including notice in the Federal Register inviting public comment (79 FR 6146-6147, 02/03/2014). The FTZ Board has determined that no further review of the activity is warranted at this time. The production activity described in the notification is authorized, subject to the FTZ Act and the Board's regulations, including Section 400.14.

Dated: May 13, 2014.
Andrew McGilvray,
Executive Secretary.

[FR Doc. 2014-11810 Filed 5-20-14; 8:45 am]

BILLING CODE 3510-DS-P